NATIONAL AERONAUTICS AND SPACE ADMINISTRATION

[Notice: 03-153]

Correction: Notice of Information Collection Under OMB Review

AGENCY: National Aeronautics and Space Administration (NASA).

ACTION: Correction: notice of information collection under OMB review.

Correction: Information on this collection originally appeared as notice document 03-144 on page 63820 in the issue of Monday, November 10, 2003. This notice corrects the date for comments from December 3, 2003 to January 10, 2004. The full collection notice is reproduced here.

SUMMARY: The National Aeronautics and Space Administration (NASA) has submitted the following information collection request to the Office of Management and Budget (OMB) for review and approval in accordance with the procedures of the Paperwork Reduction Act of 1995 (Public Law 104-13, 44 U.S.C. 3506(c)(2)(A)).

DATES: All comments should be submitted by January 10, 2004.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Public Awareness/Opinion Survey for NASA.

OMB Number: 2700-.

Type of review: New collection.

Need and Uses: The analysis of this survey will position NASA to develop a strategy to effectively communicate Agency messages.

Affected Public: Individuals or households; Business or other for-profit; Not-for-profit institutions; Federal Government; State, Local, or Tribal Government.

Number of Respondents: 1,800.

Responses Per Respondent: 1.

Annual Responses: 1,800.

Hours Per Request: 20 minutes.

Annual Burden Hours: 600.

Frequency of Report: Other (one time).

Patricia L. Dunnington,
Chief Information Officer, Office of the Administrator.

[FR Doc. 03-29994 Filed 12-1-03; 8:45 am]

BILLING CODE 7510-01-P